DEPARTMENT OF THE INTERIOR

Bureau of Land Management

National Park Service

[NM-930-1610-DP-NSHT]

Notice of Intent To Prepare a Comprehensive Management Plan/Environmental Impact Statement for the Old Spanish National Historic Trail; New Mexico, Colorado, Arizona, Utah, Nevada, and California

AGENCY: Bureau of Land Management, National Park Service, Interior.

ACTION: Notice of Intent To Prepare a Comprehensive Management Plan and Environmental Impact Statement.

SUMMARY: Pursuant to the National Trails System Act of 1968 (Pub. L. 90-543), as amended, and the National Environmental Policy Act of 1969, the Bureau of Land Management (BLM) and the National Park Service (NPS) are initiating preparation of a Comprehensive Management Plan/Environmental Impact Statement (CMP/EIS) for the Old Spanish National Historic Trail in New Mexico, Colorado, Arizona, Utah, Nevada, and California.

DATES: A public scoping period will commence on the date this Notice is published in the Federal Register and will end 120 days from the publication of this Notice. During the scoping period, the BLM and NPS will solicit public comment on issues, concerns, and opportunities that should be considered during the development and analysis of the CMP. To ensure full local community participation, public meetings will be held during the scoping period in New Mexico, in Santa Fe, Taos, Abiquiu, and Aztec; in Colorado, in Durango, Grand Junction, and Gunnison; in Arizona, in Kayenta and Page; in Utah, in Moab, Green River, and Cedar City; in Nevada, in Mesquite, Las Vegas, and Pahrump; and in California, in Barstow, San Bernardino, and Los Angeles. Dates and locations for public meetings will be announced through local news media, newsletters, and the Old Spanish Trail Web site hosted by the NPS, http://www.nps.gov/olsp. Written comments will be accepted during the development of the plan at the addresses below.

ADDRESSES: If you wish to comment, request additional information, or request to be put on the mailing list for this planning effort, you may mail, hand deliver, or call your comments or requests to: Sarah Schlanger, Bureau of Land Management, New Mexico State Office, P.O. Box 27115, 1474 Rodeo Road, Santa Fe, New Mexico 87505, telephone (505) 438-7454, fax (505) 438-7426, e-mail Sarah_Schlanger@blm.gov; or Aaron Mahr, National Park Service, P.O. Box 728, Santa Fe, New Mexico 87504-0728, telephone (505) 988-6736, fax (505) 986-5214, e-mail aaron_mahr@nps.gov. You may also comment through the Web site, http://parkplanning.nps.gov. Comments, including names and street addresses of respondents, will be available for public review at the National Park Service, 1100 Old Santa Fe Trail, Santa Fe, New Mexico, during regular business hours, 8 a.m. to 4:30 p.m., Monday through Friday, except holidays, and will be subject to disclosure under the Freedom of Information Act (FOIA). They also may be published as part of the EIS. Individual respondents may request confidentiality. If you wish to withhold your name or street address from public review or from disclosure under FOIA, you must state this prominently at the beginning of your written comment. Such requests will be honored to the extent allowed by law. We will not consider anonymous comments. All submissions from organizations, businesses, and from individuals identifying themselves as representatives or officials of organizations or businesses will be made available for public inspection in their entirety. All documents relevant to the plan development are available for review at the NPS address listed above.

FOR FURTHER INFORMATION CONTACT: Sarah Schlanger, Bureau of Land Management, P.O. Box 27115, Santa Fe, New Mexico 87502-0115, telephone (505) 438-7454, fax (505) 438-7426, e-mail Sarah_Schlanger@blm.gov; or Aaron Mahr, National Park Service, P.O. Box 728, Santa Fe, New Mexico 87504-0728, telephone (505) 988-6736, fax (505) 986-5214, e-mail aaron_mahr@nps.gov.

SUPPLEMENTARY INFORMATION: The trail passes through federally-managed lands under the administration of the BLM, NPS, U.S. Forest Service, U.S. Fish and Wildlife Service, Bureau of Reclamation, Army Corps of Engineers, and the Department of Defense, as well as through tribal lands, lands held in private hands, and lands under the administration of State and municipal agencies.

The Old Spanish Trail was added to the National Trails System in 2002 in keeping with the National Trails System Act, to “promote the preservation of, public access to, travel within, and enjoyment and appreciation of the open air, outdoor areas and historic resources of the Nation.” The trail runs from Abiquiu and Santa Fe (northern New Mexico) through Colorado, Utah, Nevada, and Arizona, to reach its terminus in Los Angeles, California, and includes some 2,700 miles along several historic routes. In its period of greatest use, from 1829 through 1848, the trail was traversed by mule pack-trains and horse-mounted traders bringing woolen goods west and herds of stock, primarily mules and horses, east to the burgeoning markets of the eastern United States and Mexico. Today, the trail crosses through or near public lands under the administration of six BLM States; two NPS regions, including 11 park units; 15 National Forests; and one National Wildlife Refuge. Over one-half the length of the trail route is in tribal, State, municipal, or private ownership and management.

The CMP/EIS for the national historic trail will identify the administrative policies, objectives, processes, and management actions needed to protect trail resources and, where possible and appropriate, make these resources accessible to the public and available to serve the public's needs for recreation, education, and heritage preservation. The CMP will describe the current condition of the trail route and trail resources; develop a vision and set goals for future preservation and development through consultation with the public, Native American communities, and traditional communities with interests in the history of the trail and the trail route, and trail resource owners and managers; and provide guidance for the preservation and development of these resources for the public benefit. Effective administration of the Old Spanish National Historic Trail will rely on the cooperative management efforts and support of Federal, tribal, State, local, and private interests, including landowners. The BLM and NPS will assume joint administration of the trail and will work together with the public to develop the CMP. Issue-driven planning themes identified to date include:

• Defining a trail corridor that incorporates trail resource protection and desired visitor experiences;

• Providing for education, interpretation, and recreation;

• Incorporating multiple voices into trail interpretation;

• Reconciling existing uses within the trail corridor with desired trail conditions;

• Identifying economic opportunities related to the recreation use of the trail; and

• Coordinating trail management among Federal, tribal, State, and local governmental agencies.

More specifically, issues related to the themes identified above include possible conflicts between off-highway vehicle use, energy development, and trail site and segment preservation, protection, and appropriate use, and conflicts between existing uses, future uses, and the preservation of trail viewsheds through visual resource management. Any additional issues to be resolved through the plan will be identified during the public scoping period.

An initial list of affected jurisdictions, interest groups, business, and landowners has been developed. A large mailing list has been generated by BLM and NPS that will be updated as the process continues. The mailing list will include all interested individuals, groups, and agencies that have participated in the process. Those who have participated in meetings or made written comments through the mail or the internet will be tracked throughout the process. Public participation elements will include, but not be limited to, public notices and press releases; newsletters and a project web page; public meetings (scoping, alternative development, and review of draft EIS); and depositories for public document review.

Nearly 50 sovereign Indian Nations have expressed an affiliation with or an interest in the Old Spanish Trail. The trail planning effort will include full tribal participation and consultation throughout the process; a point of contact for tribal consultation will be designated to coordinate with American Indian constituencies during development of the CMP.

The BLM and the NPS are committed to a collaborative planning approach in the development of the CMP. The plan development will involve other Federal agencies, including the U.S. Forest Service, the U.S. Fish and Wildlife Service, the Bureau of Reclamation, the Army Corps of Engineers, and the Department of Defense; American Indian Tribes and pueblos; State agencies in California, Arizona, Nevada, Utah, Colorado, and New Mexico, including Departments of Natural Resources, Transportation, Historic Preservation, and Parks; and county and municipal governmental agencies. Stakeholders and special interest groups, including private landowners, lessees, and permit holders, recreation groups, trail alliances and associations, museums and interpretive facilities, visitor services groups, historical societies, and scenic and back country byway organizations will be invited to participate in the development of the CMP. The BLM and NPS will work collaboratively with interested parties to identify alternatives that are best suited to local, regional, and national interests.

Dated: November 22, 2005.
Michael D. Snyder,
Acting Director, Intermountain Region National Park Service.

Dated: October 2, 2005.
Linda S.C. Rundell,
BLM State Director, New Mexico, Oklahoma, Texas, Kansas.

Dated: October 28, 2005.
Ron Wenker,
BLM State Director, Nevada.

Dated: October 31, 2005.
Sally Wisely,
BLM State Director, Colorado.

Dated: November 2, 2005.
Gene Terland,
BLM State Director, Utah.

Dated: October 31, 2005.
Mike Pool,
BLM State Director, California.

Dated: November 2, 2005.
Elaine Y. Zielinski,
BLM State Director, Arizona.

[FR Doc. 06-399 Filed 1-17-06; 8:45 am]

BILLING CODE 4310-FB-P